DEPARTMENT OF LABOR

Employment and Training Administration

[TA-W-53,129]

Bayer Pharmaceuticals Corporation Pharmaceutical Division, West Haven, CT; Including Employees of Bayer Pharmaceuticals Corporation, Pharmaceutical Division, West Haven, CT, Located in the Following States: TA-W-53,129QQ Delaware, TA-W-53,129RR Iowa, TA-W-53,129SS Maine, TA-W-53,129TT Nebraska, TA-W-53,129UU Vermont, TA-W-53,129VV District Of Columbia

Amended Notice of Certification Regarding Eligibility To Apply for Worker Adjustment Assistance

In accordance with Section 223 of the Trade Act of 1974 (19 U.S.C. 2273) the Department of Labor issued a Notice of Certification Regarding Eligibility to Apply for Worker Adjustment Assistance on October 24, 2003, applicable to workers of Bayer Pharmaceuticals Corporation, Pharmaceutical Division, West Haven, Connecticut. The notice was published in the Federal Register on November 28, 2003 (68 FR 66878). The certification was amended on February 1, 2005 to include workers of the West Haven, Connecticut facility of the subject firm located in many states throughout the United States. The notice was published in the Federal Register on February 22, 2005 (70 FR 8636-8637).

At the request of the State agency, the Department reviewed the certification for workers of the subject firm. New information shows that workers were separated involving employees of the West Haven, Connecticut facility of Bayer Pharmaceuticals Corporation, Pharmaceutical Division located in the above mentioned states. These employees provided sales support services for the production of pharmaceutical products at the West Haven, Connecticut location of the subject firm.

Based on these findings, the Department is amending this certification to include employees of the West Haven, Connecticut facility of Bayer Pharmaceuticals Corporation, Pharmaceutical Division, located in the above mentioned states.

The intent of the Department's certification is to include all workers of Bayer Pharmaceuticals Corporation, Pharmaceutical Division, West Haven, Connecticut, who were adversely affected by increased imports.

The amended notice applicable to TA-W-53,129 is hereby issued as follows:

“All workers of Bayer Pharmaceuticals Corporation, Pharmaceutical Division, West Haven, Connecticut (TA-W-53,129), including employees of Bayer Pharmaceuticals Corporation, Pharmaceutical Division, West Haven, Connecticut, located in the following states: Delaware (TA-W-53,129QQ), Iowa (TA-W-53,129RR), Maine (TA-W-53,129SS), Nebraska (TA-W-53,129TT), Vermont (TA-W-53,129UU) and District of Columbia (TA-W-53,129VV), who became totally or partially separated from employment on or after October 1, 2002, through October 24, 2005, are eligible to apply for adjustment assistance under Section 223 of the Trade Act of 1974.”

Signed at Washington, DC this 14th day of March 2005.
Richard Church,
Certifying Officer, Division of Trade Adjustment Assistance.

[FR Doc. E5-1355 Filed 3-25-05; 8:45 am]

BILLING CODE 4510-30-P